INTERNATIONAL TRADE COMMISSION

[Investigation Nos. 701-TA-521 and 731-TA-1252-1255 and 1257 (Review)]

Steel Nails From Korea, Malaysia, Oman, Taiwan, and Vietnam

Determinations

On the basis of the record ¹ developed in the subject five-year reviews, the United States International Trade Commission (“Commission”) determines, pursuant to the Tariff Act of 1930 (“the Act”), that revocation of the countervailing duty order on steel nails from Vietnam and the antidumping duty orders on steel nails from Korea, Malaysia, Oman, Taiwan, and Vietnam would be likely to lead to continuation or recurrence of material injury to an industry in the United States within a reasonably foreseeable time.

¹ The record is defined in § 207.2(f) of the Commission's Rules of Practice and Procedure (19 CFR 207.2(f)).

Background

The Commission instituted these reviews on June 1, 2020 (85 FR 33195) and determined on September 4, 2020 that it would conduct expedited reviews (86 FR 26545, May 14, 2021).

The Commission made these determinations pursuant to section 751(c) of the Act (19 U.S.C. 1675(c)). It completed and filed its determinations in these reviews on May 28, 2021. The views of the Commission are contained in USITC Publication 5200 (May 2021), entitled Steel Nails from Korea, Malaysia, Oman, Taiwan, and Vietnam: Investigation Nos. 701-TA-521 and 731-TA-1252-1255 and 1257 (Review).

By order of the Commission.
Issued: May 28, 2021.
Lisa Barton,
Secretary to the Commission.

[FR Doc. 2021-11703 Filed 6-2-21; 8:45 am]

BILLING CODE 7020-02-P